DEPARTMENT OF LABOR

Mine Safety and Health Administration

Sago Mine Explosion, Buckhannon, WV, Public Hearing

AGENCY: Mine Safety and Health Administration, Labor.

ACTION: Notice of public hearing.

SUMMARY: This notice sets a date, time, place and procedures for a public hearing in connection with the Mine Safety and Health Administration's and the State of West Virginia's investigation of the January 2, 2006 explosion at the Sago Mine in Buckhannon, West Virginia.

DATES: The hearing will begin at 9 a.m e.d.t. on May 2, 2006 and at 8:30 a.m. e.d.t. on May 3.

ADDRESSES: Benedum Campus Community Center, West Virginia Wesleyan College, 59 College Avenue, Buckhannon, West Virginia 26201.

FOR FURTHER INFORMATION CONTACT: Mark R. Malecki, Counsel for Trial Litigation, Office of the Solicitor, United States Department of Labor; phone: (202) 693-9341; facsimile: (202) 693-9361; electronic mail: Malecki.Mark@dol.gov.

SUPPLEMENTARY INFORMATION: The hearing will be convened pursuant to Section 103(b) of the Federal Mine Safety & Health Act of 1977, 30 U.S.C. Section 813(b). The purpose of the hearing is to assist the Mine Safety and Health Administration (MSHA) in carrying out its statutory responsibility to (1) Determine the cause(s), including possible contributory causes, of the explosion; (2) identify and develop corrective actions, procedures and strategies to prevent the occurrence of similar accidents; (3) obtain, utilize, and disseminate information related to the health and safety conditions at the Sago Mine; and (4) gather information with respect to mandatory safety and health standards. The hearing will be non-adversarial and fact-finding in nature and questioning will be limited to the statutory purposes.

The hearing will be conducted jointly with officials of the State of West Virginia. The rules of the hearing are as follows:

1. Composition of the Hearing Panel

The Hearing Panel will be composed of representatives of MSHA and representatives of the State of West Virginia. The Hearing Panel will be headed by a Chairperson who shall be selected by the State of West Virginia. The Chairperson shall have the authority to administer oaths, regulate the conduct of the public hearing, and rule on any procedural questions or objections.

2. Witness Testimony

a. Witness testimony will be presented in panels according to topics selected in advance by representatives of MSHA and the State of West Virginia.

b. Each witness shall take an oath and opening statements or presentations on behalf of the witness or the panel will be limited at the discretion of the Chairperson.

c. Witnesses may use visual aids, demonstrative exhibits or documents but should make arrangements in advance with the Chairperson to assure that such materials can be adequately displayed in the allotted time and that there are means by which the objects or documents may be entered into the record.

d. Following the presentation of witness' statements, representatives of MSHA and the State of West Virginia may question the witness and ask clarifying questions.

e. Following the conclusion of the initial statements and questions by the Secretary's representatives and State officials, a designated representative of the families who lost relatives in the mine explosion on January 2, 2006 shall have the opportunity to ask questions of the witnesses on the panel. The Chairperson shall have the authority to consider whether the question is relevant and appropriate, and if so, the witness shall answer the question. Other persons may submit questions in writing to the Chairperson, who shall ask the questions that he believes are relevant and appropriate to ask of the witnesses. All the questions submitted during the hearing shall be retained and entered into the public hearing record. The Chairperson may direct specific questions to particular witnesses to be responded to in writing for inclusion in the hearing record.

f. The testimony of witnesses, including statements and responses to questions shall be transcribed and made part of the public record. The transcripts of witness interviews taken during the joint MSHA—WV Sago accident investigation, including exhibits, shall be made part of the record of this public hearing unless otherwise subject to privilege.

g. Any material or documents gathered pursuant to the Sago accident investigation may be made part of the record of the public hearing at the discretion of MSHA and the State of West Virginia.

3. Issuance of Subpoenas

The Chairperson shall have the authority to issue subpoenas for the purpose of securing the attendance of witnesses to provide testimony and the production of relevant documents or objects or testimony. If a witness appears to testify pursuant to subpoena, MSHA and the State of West Virginia shall pay all normally applicable witness fees.

4. Attendance of Spectators and Media

The public hearing is open to the public; however, MSHA and State of West Virginia have the authority to put reasonable limitations on use of transcription devices, videotape cameras, still cameras, camera lights and camera flash lights. MSHA and State of West Virginia have the right to restrict persons from entering into the hearing room if they believe their conduct will be disruptive and have the right to restrict the number of spectators to the capacity of the meeting room.

Dated: April 10, 2006.
David G. Dye,
Acting Assistant Secretary for Mine Safety and Health.

[FR Doc. 06-3580 Filed 4-11-06; 11:08 am]

BILLING CODE 4510-43-P